DEPARTMENT OF ENERGY

Proposed Agency Information Collection Submitted for OMB Review and Comment

AGENCY: U.S. Department of Energy.

ACTION: Notice and request for OMB review and comment.

SUMMARY: The Department of Energy (DOE) has submitted to the Office of Management and Budget (OMB) for clearance, a proposal for collection of information under the provisions of the Paperwork Reduction Act of 1995. The proposed collection is the State Energy Program (SEP). This information collection pertains to Department State Energy Program (SEP) grants to States, intended to promote energy conservation and renewable energy in 55 areas specified in the collection instrument, such as agriculture, geothermal, biomass, traffic signals, home energy ratings, building codes, etc. Requested information includes matters such as which one of the following six broad categories that the request pertains to (buildings, electric power and renewable energy, energy education, industry, policy planning and energy security, and transportation); the State; the program year; the area or areas of the 55 referred to above; estimated annual energy saving: a description of the requested grant's goals and objectives; program year milestones; and program year funds by source.

DATES: Comments regarding this collection must be received on or before April 13, 2005. If you anticipate that you will be submitting comments, but find it difficult to do so within the period of time allowed by this notice, please advise the OMB Desk Officer of your intention to make a submission as soon as possible. The Desk Officer may be telephoned at 202-395-4650.

ADDRESSES: Written comments should be sent to: DOE Desk Officer, Office of Information and Regulatory Affairs, Office of Management and Budget, New Executive Office Building, Room 10102, 735 17th Street, NW., Washington, DC 20503.

Comments should also be addressed to: Sharon A. Evelin, Director, IM-11/Germantown Bldg., U.S. Department of Energy, 1000 Independence Ave, SW., Washington, DC 20585-1290, and to Joseph Konrade, EE-2K, U.S. Department of Energy, 1000 Independence Ave, SW., Washington DC 20585.

FOR FURTHER INFORMATION CONTACT: Requests for additional information or copies of the information collection instrument and instructions should be directed to Joe Konrade at the address listed above in ADDRESSES.

SUPPLEMENTARY INFORMATION: This package contains: (1) OMB No.: “New”; (2) Package Title: State Energy Program (3) Type of Request: New collection. (4) Purpose: Promote the conservation of energy, reduce the rate of growth of energy demand and reduce dependence on imported oil. (5) Type of Respondents: States and U.S. Territories; (6) Estimated Number of Respondents: 56 (Fifty Six); (8) Estimated Number of Burden Hours: 1,344.

Statutory Authority: 10 CFR 420, State Energy Program.

Issued in Washington, DC on March 8, 2005.
Sharon A. Evelin,
Director, Records Management Division, Office of the Chief Information Officer.

[FR Doc. 05-4964 Filed 3-11-05; 8:45 am]

BILLING CODE 6450-01-P